DEPARTMENT OF EDUCATION

34 CFR Chapter VI

[ED-2024-OPE-0002]

Proposed Priorities, Requirements, and Definition—Augustus F. Hawkins Centers of Excellence Program

AGENCY: Office of Postsecondary Education, Department of Education.

ACTION: Proposed priorities, requirements, and definition.

SUMMARY: The Department of Education (Department) proposes priorities, requirements, and definition for use in the Augustus F. Hawkins Centers of Excellence (Hawkins) Program, Assistance Listing Number 84.428A. The Department may use one or more of these priorities, requirements, and definition for competitions in fiscal year (FY) 2024 and later years. We intend for these priorities, requirements, and definition to help increase the number of, and retain, well-prepared teachers from diverse backgrounds, resulting in a more diverse teacher workforce prepared to teach in our Nation's underserved elementary and secondary schools and close student opportunity and achievement gaps.

DATES: We must receive your comments on or before March 4, 2024.

ADDRESSES: Comments must be submitted via the Federal eRulemaking Portal at www.regulations.gov. However, if you require an accommodation or cannot otherwise submit your comments via www.regulations.gov, please contact one of the program contact persons listed under FOR FURTHER INFORMATION CONTACT. The Department will not accept comments submitted by fax or by email, or comments submitted after the comment period closes. To ensure the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing in their entirety on the Federal eRulemaking Portal at www.regulations.gov. Therefore, commenters should be careful to include in their comments only information that they wish to make publicly available.

FOR FURTHER INFORMATION CONTACT: Dr. Vicki Robinson, U.S. Department of Education, 400 Maryland Avenue SW, 5th Floor, Washington, DC 20202. Telephone: (202) 453-7907. Email: Vicki.Robinson@ed.gov. You may also contact Ashley Hillary, U.S. Department of Education, 400 Maryland Avenue SW, 5th floor, Washington, DC 20202. Telephone: (202) 453-7880. Email: Ashley.Hillary@ed.gov.

If you are deaf, hard of hearing, or have a speech disability and wish to access telecommunications relay services, please dial 7-1-1.

SUPPLEMENTARY INFORMATION:

Invitation to Comment: We invite you to submit comments regarding the proposed priorities, requirements, and definition. To ensure that your comments have maximum effect in developing the final priorities, requirements, and definition, we urge you to identify clearly the specific section of the proposed priorities, requirements, and definition that each comment addresses.

We invite you to assist us in complying with the specific requirements of Executive Orders 12866, 13563, and 14094 and their overall requirement of reducing regulatory burden that might result from these proposed priorities, requirements, and definition. Please let us know of any further ways we could reduce potential costs or increase potential benefits while preserving the effective and efficient administration of the program.

During and after the comment period, you may inspect public comments about the proposed priorities, requirements, and definition by accessing Regulations.gov. To inspect comments in person, please contact one of the persons listed under FOR FURTHER INFORMATION CONTACT.

Assistance to Individuals with Disabilities in Reviewing the Rulemaking Record: On request we will provide an appropriate accommodation or auxiliary aid to an individual with a disability who needs assistance to review the comments or other documents in the public rulemaking record for these proposed priorities, requirements, and definition. If you want to schedule an appointment for this type of accommodation or auxiliary aid, please contact the person listed under FOR FURTHER INFORMATION CONTACT.

Purpose of Program: The Hawkins Program, authorized under part B of title II of the Higher Education Act of 1965, as amended (HEA), is designed to support comprehensive, high-quality State-accredited teacher preparation programs by creating centers of excellence at Historically Black Colleges and Universities (HBCUs); Tribal Colleges or Universities (TCUs); or Minority Serving Institutions (MSIs), such as Hispanic-Serving Institutions (HSIs). The Hawkins Program will help increase the number of, and retain, well-prepared teachers from diverse backgrounds, resulting in a more diverse teacher workforce prepared to teach in our Nation's highest-need elementary and secondary schools and close student opportunity and achievement gaps. This program focuses on the various aspects of the teacher preparation pipeline, including the recruitment, preparation, support, placement, and retention and retraining of teachers for and in high-need schools to support underserved students. Through this program, the Secretary seeks to fund applicants that propose to incorporate evidence-based practices into their teacher preparation program.

Program Authority: 20 U.S.C. 1033-1033a.

Proposed Priorities

Background: There is significant inequity in students' access to well-prepared, experienced, and effective teachers,¹ particularly for students from low-income backgrounds, students of color, children or students with disabilities, and English learners (ELs).² Providing all students with consistent access to a well-prepared, effective, and diverse educator workforce who provide high-quality instruction and support to all children and youth is essential to closing opportunity and achievement gaps. Teachers who entered the profession through the least comprehensive teacher preparation pathway are two to three times more likely to leave their school or the profession compared to those who entered through a comprehensive pathway.³ Research demonstrates that high rates of turnover harm student achievement,⁴ and that the quality of a school's leadership is among the most important predictors of teacher turnover, with more effective principals being more likely to retain their best teachers.⁵

¹ Isenberg, E., Max, J., Gleason, P., Johnson, M., Deutsch, J., and Hansen, M. (2016). Do Low-Income Students Have Equal Access to Effective Teachers? Evidence from 26 Districts (NCEE 2017-4007). Washington, DC: National Center for Education Evaluation and Regional Assistance, Institute of Education Sciences, U.S. Department of Education.

² www.ed.gov/raisethebar/Eliminating-Educator-Shortages-through-Increasing-Educator-Diversity.

³ Ingersoll, R., & May, H. (2011). Recruitment, retention and the minority teacher shortage. CPRE Research Report #RR-69. Philadelphia, PA: Consortium for Policy Research in Education, University of Pennsylvania.

⁴ Carver-Thomas, D., and Darling-Hammond, L. (2017). Teacher Turnover: Why It Matters and What We Can Do About It, Learning Policy Institute, https://learningpolicyinstitute.org/product/teacher-turnover-report.

⁵ Grissom, J. (2018). Strong principals retain effective teachers—and don't retain ineffective ones, The Brookings Institution, https://www.brookings.edu/articles/strong-principals-retain-effective-teachers-and-dont-retain-ineffective-ones/.

The Hawkins Program is critical in enabling the Department to meet its goal of supporting a diverse teacher workforce to improve student opportunities, achievement and outcomes, and address the educator shortage, by providing expanded access to comprehensive, high-quality, and affordable educator preparation programs. To increase and retain the number of well-prepared teachers from diverse backgrounds, and improve their preparation, recruitment, retention and placement, the Department proposes the following three priorities. We may use one or more of these priorities in any year in which this program is in effect.

Proposed Priority 1: Increase Evidence-Based, Comprehensive Pre-service Clinical Experiences Through Teacher Preparation Programs.

Background: The Department proposes this priority to assist centers of excellence at eligible institutions of higher education (IHEs) in expanding their pre-service clinical experiences through comprehensive teacher preparation programs. The priority would advance comprehensive, high-quality teacher preparation by creating partnerships with local high-need districts and schools, in order to form meaningful clinical practice partnerships and help address teacher shortages. These clinical practice partnerships can both provide a preparation opportunity and serve as a pathway to hiring well-prepared teacher candidates from backgrounds that are underrepresented in the profession, including teacher candidates of color. High-quality, evidence-based clinical experience can also lead to increased teacher retention as research demonstrates that teachers prepared in classrooms similar to those they teach in after graduation are more likely to remain in the classroom.⁶ Furthermore, extensive, high-quality, evidence-based, clinical experience is one of three “aspects of preparation that have the highest potential for effects on outcomes for students.” ⁷

⁶ Francies, C., Glover, S., and Jamieson, C. (2021). Enhancing Teacher Preparation Through Clinical Experience. Education Commission of the States. https://www.ecs.org/wp-content/uploads/Enhancing-Teacher-Preparation-Through-Clinical-Experience.pdf.

⁷ National Research Council. (2010). Preparing teachers: Building evidence for sound policy. Report by the Committee on the study of teacher preparation programs in the United States. Washington, DC: National Academies Press.

There are several ways educator preparation programs can partner with school districts and schools to provide these kinds of clinical experiences. For example, a number of school districts are partnering with teacher preparation programs to provide clinical experiences that are mutually beneficial for teacher candidates and teachers of record, and their students. Teacher candidates, in addition to completing the required elements of evidence-based clinical experience, may also serve in schools in roles that support students and teachers as their academic schedules allow and as they complete their other requirements for teacher certification. Teacher residencies and Grow Your Own programs, which may be supported through registered teacher apprenticeship programs, can support teacher candidates serving in these roles and cover the costs associated with extensive clinical experience. Other examples of educator preparation programs supporting high need schools in this way can be found here: www.ed.gov/coronavirus/factsheets/teacher-shortage.

Proposed Priority 1:

To meet this priority, an eligible applicant must propose projects that are evidence-based (as defined in 34 CFR 77.1) comprehensive teacher preparation programs that provide extensive clinical experience. Applicants with existing programs must describe their record in graduating highly skilled, well-prepared, and diverse teachers and describe how the proposed project will refine or enhance existing programs. Applicants proposing new programs must describe how their new program is evidence-based and designed to achieve the intended outcomes of the Hawkins Program. Applicants must also address how they will—

(a) Examine the sources of inequity and inadequacy in resources and opportunity and implement pedagogical practices in teacher preparation programs that are inclusive with regard to race, ethnicity, culture, language, gender, and disability status and that prepare teachers to create inclusive, supportive, equitable, unbiased, and identity-safe learning environments for their students;

(b) Prepare teacher candidates to integrate rigorous academic content, including through the effective use of technology, and instructional techniques and strategies consistent with universal design for learning principles;

(c) Prepare teacher candidates to design and deliver instruction in ways that are engaging and provide their students with opportunities to think critically and solve complex problems, apply learning in authentic and real-world settings, communicate and collaborate effectively, and develop growth mindsets. Teacher candidate pedagogy should include how to incorporate project-based, work-based, or other experiential learning opportunities in curriculum development;

(d) Prepare teacher candidates to build meaningful and trusting relationships with students and their families to support in-home, community-based, and in-school learning; and

(e) Provide sustained and high-quality pre-service clinical experiences, including teaching assistant initiatives, that facilitate the pathway to the teaching credential for those with paraprofessional experience or high-quality school leader induction and support in the first three years of school leadership for principals and other school leaders. In providing such experiences, applicants must consider opportunities to provide pre-service clinical experience earlier in the teacher preparation program, as is practicable, and in ways that benefit students and teachers. These clinical experiences must be designed to—

(1) Integrate pedagogy and classroom practice and promote effective teaching skills in academic content areas;

(2) Be tightly aligned with course work with clear, relevant, and strong links between theory and practice;

(3) Group teacher candidates in cohorts to facilitate reflection of practice and professional collaboration;

(4) Closely supervise interaction between teacher candidates and faculty, experienced teachers, principals, and other administrators in high-need schools or hard-to-staff schools; and

(5) Provide high-quality-teacher mentoring.

Proposed Priority 2: Projects that are Designed to Increase and Retain the Number of Well-Prepared Teachers from Diverse Backgrounds.

Background: The Department proposes this priority to increase teacher diversity by supporting teacher candidates from backgrounds that are underrepresented in the profession. While the majority of U.S public school students are children of color,⁸ only 20 percent of teachers are people of color and 40 percent of the Nation's public schools do not have a single teacher of color on record.⁹ Research shows that teachers of color benefit all students and can have a significant positive impact on students of color.¹⁰ When students of color are instructed by teachers of color, higher levels of student achievement,¹¹ student encouragement, students forming aspirations (e.g., through role modeling), teacher recommendations (for example, to gifted and talented programs), and rigorous course-taking ¹² have all been observed. Research also demonstrates that teachers of color can be positive role models for all students in breaking down negative stereotypes and preparing students to live and work in a multiracial society.¹³ A more diverse teacher workforce also increases the likelihood that students of color will have access to culturally and linguistically relevant teaching and learning and positive relationships.¹⁴ Thus, supporting teachers of color can be a critical strategy for advancing educational equity for students of color and addressing one of the root causes of institutional barriers to equity in the academic environment.¹⁵

⁸ https://nces.ed.gov/programs/coe/indicator/cge/racial-ethnic-enrollment.

⁹ Education Trust (2022). Educators of Color Make the Case for Teacher Diversity. https://edtrust.org/wp-content/uploads/2014/09/Educators-of-Color-Make-the-Case-for-Teacher-Diversity-November-2022.pdf.

¹⁰ Dee, T. (2004). Teachers, race and student achievement in a randomized experiment. The Review of Economics and Statistics, 86(1), 195-210; and Gershenson, S., Hart, C.M.D., Lindsay, C.A., & Papageorge, N.W. (2017). The long-run impacts of same race teachers. Bonn, Germany: IZA Institute of Labor Economics. Discussion Paper Series.

¹¹ Egalite, A., Kisida, B., & Winters, M.A. Representation in the classroom: The effect of own-race teachers on student achievement, Economics of Education Review, 45 (April 2015), 44-52.

¹² Grissom, J., Kabourek, S., & Kramer, J. Exposure to same-race or same-ethnicity teachers and advanced math course-taking in high school: Evidence from a diverse urban district, Teachers College Record, 122 (2020), 1-42.

¹³ www2.ed.gov/rschstat/eval/highered/racial-diversity/state-racial-diversity-workforce.pdf.

¹⁴ Blazar, D. (2021). Teachers of Color, Culturally Responsive Teaching, and Student Outcomes: Experimental Evidence from the Random Assignment of Teachers to Classes. (EdWorkingPaper: 21-501). Retrieved from Annenberg Institute at Brown University: https://doi.org/10.26300/jym0-wz02.

¹⁵ www2.ed.gov/rschstat/eval/highered/racial-diversity/state-racial-diversity-workforce.pdf.

Proposed Priority 2:

To meet this priority, applicants must propose projects that are designed to increase the number of well-prepared teachers and the diversity of the teacher workforce with a focus on increasing and retaining a diverse teacher workforce, and improving the preparation, recruitment, retention, and placement of such teachers.

Applicants addressing this priority must describe—

(a) How their project will integrate multiple services or initiatives across academic and student affairs, such as academic advising, counseling, stipends, child-care, structured/guided pathways from teacher candidates' first year in the preparation program through successful employment placement, career services, or student financial aid, such as scholarships, with the goal of increasing program completion and credential attainment;

(b) Their plan for identifying and supporting teacher candidates from backgrounds that are underrepresented in the profession, including teacher candidates of color. This plan must span the beginning of the preparation program through graduation, and include a plan to improve program entry rates, as applicable, graduation rates, passage rates for certification and licensure exams, and rates of successful employment placement between teacher candidate subgroups and an institution's overall teacher candidate population; and

(c) Their proposed initiatives to promote the retention of teachers from backgrounds that are underrepresented in the profession, including teachers of color, prepared through the program, which may include induction programs, such as teacher or school leader induction programs, or mentorship programs that provide school and district leaders with the support they need to persist in their professions.

Proposed Priority 3—Increasing the Number of Bilingual and/or Multilingual Teachers with Full Certification.

Background: The Department proposes this priority to increase teacher diversity by expanding the number of bilingual and multilingual teachers with full teacher certification. In addition to the need for more teachers of color, a parallel challenge in the Nation's public schools lies in the shortage of multilingual teachers prepared to teach a growing population of English Learners (ELs). ELs are the fastest growing student demographic, with more than ten percent of students identified as ELs currently.¹⁶ Additionally, about one-quarter of all students speak a language other than English at home, whereas only 1 in 8 teachers do.¹⁷ Despite that, more than half of the States nationwide are experiencing bilingual and multilingual teacher shortages and a quarter of the States do not require certification or endorsements for teachers who teach ELs.¹⁸

¹⁶ https://nces.ed.gov/programs/digest/d20/tables/dt20_204.20.asp.

¹⁷ https://datacenter.kidscount.org/data/tables/81-children-who-speak-a-language-other-than-english-at-home?loc=1&loct=1#detailed/1/any/false/1729,37,871,870,573,869,36,868,867,133/any/396,397.

¹⁸ Torre Gibney, D., Kelly, H., Rutherford-Quach, S., Ballen Riccards, J. & Parker, C. (2021). Addressing the bilingual teacher shortage. CCNetwork.

The bilingual and multilingual teacher shortage has the potential to have a negative impact on all students, but especially ELs. These shortages may be among the reasons why ELs have some of the lowest achievement levels and graduation rates.¹⁹ During the pandemic, ELs were also likely to lose instructional time, thus experiencing setbacks in their language acquisition goals.²⁰ Research demonstrates that ELs who are taught in bilingual settings, such as dual-language immersion programs, by well-prepared bilingual teachers have stronger academic outcomes and better English-language acquisition trajectories than ELs who are taught in English only, which underscores the need to close the multilingual teacher shortage gap.²¹ Additionally, ELs who learn in bilingual settings in which they can maintain their native languages while learning English have stronger social and emotional development, cross-cultural skills, and problem-solving skills.²²

¹⁹ https://www2.ed.gov/datastory/el-outcomes/index.html#:~:text=Graduation%20Rates,-In%202015%E2%80%9316&text=For%20ELs%20the%20rate%20was,%2DELs%20(85%20percent).

²⁰ www.gao.gov/products/gao-21%E2%80%9343.

²¹ Steele, J., Slater, R., Zamarro, G., Miller, T., Li, J., Burkhauser, S., Bacon, M. (2017). Effects of Dual-Language Immersion Programs on Student Achievement: Evidence From Lottery Data, American Educational Research Journal, 54, no. 1S,: 282S-306S, https://journals.sagepub.com/doi/abs/10.3102/0002831216634463.

²² Williams, C., Soto-Boykin, X., Zabala, J., Meek, S. (2023). Why We Need To Cultivate America's Multilingual, Multicultural Assets. The Century Foundation. https://tcf.org/content/report/why-we-need-to-cultivate-americas-multilingual-multicultural-assets/#easy-footnote-bottom-9.

Bilingual and multilingual learning environments can also mitigate linguistic barriers that limit family engagement, as bilingual and multilingual teachers are more likely to communicate with linguistically diverse families and ensure they have equitable access to learn about their students' education.²³ Bilingual and multilingual teachers' assets are critical to creating inclusive school and family partnerships where linguistically diverse families can meaningfully participate in their child's education.²⁴

²³ Hopkins, M., & Schutz, K.M. (2019). Bilingual teacher leadership: Supporting linguistically responsive practices and parent engagement in schools. NABE Journal of Research and Practice, 9(2), 96-109.

²⁴ Newcomer, S.N., & Puzio, K. (2016). “Cultivando confianza”: A bilingual community of practice negotiates restrictive language policies. International Journal of Bilingual Education and Bilingualism, 19(4), 347-369.

Proposed Priority 3:

To meet this priority, applicants must propose projects that are designed to prepare effective and experienced bilingual and/or multilingual teachers for high-need schools by increasing the number of teachers across elementary and secondary schools who are fully certified to provide academic language instruction in a language other than English, including for English Learners (ELs). These projects must prepare teacher candidates to lead students toward linguistic fluency and academic achievement in more than one language. Applicants must describe how—

(a) Their project will integrate multiple services or initiatives across academic and student affairs, such as academic advising, counseling, stipends, child-care, structured/guided pathways from teacher candidates' first year in the preparation program through successful employment placement, career services, and student financial aid, such as scholarships, and provide the necessary knowledge and skills so that teacher candidates can serve students from many different language backgrounds; and

(b) Their plan for recruiting, supporting, and retaining bilingual and/or multilingual teacher candidates, including those who may have a teaching credential but have not been teaching in bilingual and/or multilingual education settings; aspiring teachers; and teaching assistants who are interested in becoming bilingual and/or multilingual teachers.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

The Department proposes the following requirements for this program. We may apply one or more of these requirements in any year in which this program is in effect.

Proposed Requirement 1—Draft Written Agreement with Clinical Practice Partner(s).

An applicant must provide a Draft Written Agreement (DWA) that identifies the partnership between: (1) at least one eligible IHE with a state accredited teacher preparation program, and (2) a high-need local educational agency (LEA) or consortium of high-need LEAs, or with a high-need school or consortium of high-need schools. The agreement with partners is intended to ensure that the parties joining the project are committed to fulfilling the purpose of the clinical practice by either creating new partnerships or expanding existing partnerships, and that teacher candidates will not become the teacher of record prior to completing the certification program, including pre-service clinical experience, and, for any candidates who entered the program without a bachelor's degree, obtaining a bachelor's. Grantees will finalize the DWA into a Final Written Agreement (FWA) within 120 days of grant award notification.

Proposed Requirement 2—Supplement-Not-Supplant.

Grant funds must be used so that they supplement and, to the extent practical, increase the funds that would otherwise be available for the activities to be carried out under this grant.

Proposed Requirement 3—Indirect Cost Rate Information.

A grantee's indirect cost reimbursement is limited to 8 percent of a modified total direct cost base. For more information regarding indirect costs, or to obtain a negotiated indirect cost rate, please see www.ed.gov/about/offices/list/ocfo/intro.html.

Proposed Definition

The Department proposes the following definition for this program. We may apply this definition in any year in which this program is in effect.

Pre-service means the period of training for a person who does not have a prior teaching certification or license and who is enrolled in a State-approved teacher education program at an institution of higher education, prior to becoming the teacher of record.

Final Priorities, Requirements, and Definition

We will announce the final priorities, requirements, and definition in a document in the Federal Register. We will determine the final priorities, requirements, and definition after considering public comments on the proposed priorities, requirements, and definition and other information available to the Department. This document does not preclude us from proposing additional priorities,requirements, definitions, or selection criteria, subject to meeting applicable rulemaking requirements.

Note: This document does not solicit applications. In any year in which we choose to use one or more of these priorities, requirements, and definition, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, and definition only on a reasoned determination that their benefits would justify their costs. In choosing among alternative regulatory approaches, we selected those approaches that would maximize net benefits. Based on the analysis that follows, the Department believes that this regulatory action is consistent with the principles in Executive Order 13563.

The potential costs associated with these priorities, requirements, and definition would be minimal, while the potential benefits are significant. The Department believes that this proposed regulatory action would not impose significant costs on eligible entities. Participation in this program is voluntary, and the costs imposed on applicants by this regulatory action would be limited to paperwork burden related to preparing an application. The potential benefits of implementing the program would outweigh the costs incurred by applicants, and the costs of carrying out activities associated with the application would be paid for with program funds. For these reasons, we have determined that the costs of implementation would not be burdensome for eligible applicants, including small entities.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Clarity of the Regulations

Executive Order 12866 and the Presidential memorandum “Plain Language in Government Writing” require each agency to write regulations that are easy to understand. The Secretary invites comments on how to make these proposed priorities, requirements, and definition easier to understand, including answers to questions such as the following:

• Are the requirements in the proposed priorities, requirements, and definition clearly stated?

• Do the proposed priorities, requirements, and definition contain technical terms or other wording that interferes with their clarity?

• Does the format of the proposed priorities, requirements, and definition (grouping and order of sections, use of headings, paragraphing, etc.) aid or reduce their clarity?

• Would the proposed priorities, requirements, and definition be easier to understand if we divided them into more (but shorter) sections?

• Could the description of the proposed priorities, requirements, and definition in the SUPPLEMENTARY INFORMATION section of this preamble be more helpful in making the proposed priorities, requirements, and definition easier to understand? If so, how?

• What else could we do to make the proposed priorities, requirements, and definition easier to understand?

To send any comments that concern how the Department could make these proposed priorities, requirements, and definition easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that these proposed priorities, requirements, and definition would not have a significant economic impact on a substantial number of small entities.

The small entities that this proposed regulatory action would affect are IHEs that meet the eligibility requirements described in section 241(1) of the HEA. The Secretary believes that the costs imposed on applicants by the proposed priorities, requirements, and definition would be limited to paperwork burden related to preparing an application and that the benefits would outweigh any costs incurred by applicants.

Participation in this program is voluntary. For this reason, the proposed priorities, requirements, and definition would impose no burden on small entities unless they applied for funding under the program. We expect that in determining whether to apply for Hawkins Program funds, an eligible applicant would evaluate the requirements of preparing an application and any associated costs, and weigh them against the benefits likely to be achieved by receiving a Hawkins Program grant. Eligible applicants most likely would apply only if they determine that the likely benefits exceed the costs of preparing an application. The likely benefits include the potential receipt of a grant as well as other benefits that may accrue to an entity through its development of an application, such as the use of that application to seek funding from other sources to address the teacher shortage present in the Nation's high need-need public schools.

This proposed regulatory action would not have a significant economic impact on a small entity once it receives a grant because it would be able to meet the costs of compliance using the funds provided under this program. We invite comments from eligible small entities as to whether they believe this proposed regulatory action would have a significant economic impact on them and, if so, request evidence to support that belief.

Paperwork Reduction Act of 1995

These proposed priorities, requirements, and definition do not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser Paydar,
Assistant Secretary for Postsecondary Education.

[FR Doc. 2024-01972 Filed 1-31-24; 8:45 am]

BILLING CODE 4000-01-P